Presidential Determination No. 2010-16 of September 15, 2010—Presidential Determination on Major Illicit Drug Transit or Major Illicit Drug Producing Countries for Fiscal Year 2011

Correction

In Presidential document 2010-27676 beginning on page 67019 in the issue of Monday, November 1, 2010, make the following correction:

On page 67019, the Presidential Determination number should read “2010-16”

[FR Doc. C1-2010-27676

Filed 11-5-10; 8:45 am]

Billing Code 1505-01-D